DEPARTMENT OF AGRICULTURE

Forest Service

Los Padres National Forest; California; Oil and Gas Leasing Analysis

AGENCY: Forest Service, USDA.

ACTION: Revised notice of intent to prepare an environmental impact statement.

SUMMARY: The USDA, Forest Service, Los Padres National Forest, published a Notice of Intent to conduct an analysis and prepare an Environmental Impact Statement (EIS) for oil and gas leasing in the Federal Register on September 15, 1995 (Volume 60, Number 179, pages 47929-47930). A revised notice of Intent is being issued because of the delay in filing the Final EIS. The original Notice of Intent of September 15, 1995 stated that the Final EIS was scheduled to be completed by April of 1997. The estimated date for completing the Final EIS is now June of 2005.

DATES: Scoping was conducted as described in the September 15, 1995 Notice of Intent. Scoping comments submitted during scoping for the proposed action are part of the project record and were considered in the Draft EIS. The Draft EIS was distributed in December of 2001. Agency, organization, and public comment to the Draft EIS was accepted until April 19, 2002. These comments are being considered during the completion of the Final EIS. The final environmental impact statement is expected in June of 2005.

FOR FURTHER INFORMATION CONTACT: Al Hess, Oil and Gas Resource Specialist, Los Padres National Forest, 1190 E. Ojai Ave., Ojai, CA 93023, (805) 646-4348, ext. 311. E-mail: ahess@fs.fed.us

SUPPLEMENTARY INFORMATION:

Purpose and Need for Action

There is a need for identification of Los Padres National Forest lands were oil and gas exploration, development, and production would be appropriate. There is a need to respond to the Bureau of Land Management on outstanding requests (applications) for leasing. There is a need for information concerning the potential environmental impacts of existing leases.

Proposed Action

The Forest Supervisor proposes to make additional areas of Los Padres National Forest lands available for oil and gas exploration, development, and production by selecting among alternative leasing scenarios. These scenarios vary in the amount of area available for leasing as well as the conditions (stipulations) under which the lands would be leased. The Forest Supervisor will also determine what specific lands will be offered for leasing. The various leasing scenarios are described in detail in Section 2.4.2 of the Draft EIS. The proposal will amend the Los Padres National Forest Land and Resource Management Plan in accordance with regulations for oil and gas leasing found at 36 CFR 228, Subpart E—Oil and Gas Resources. Subsequently, the Regional Forester will authorize the Bureau of Land Management to offer specific National Forest System lands for lease.

Possible Alternatives

Seven alternative leasing scenarios were analyzed and compared in the draft EIS. These alternatives are:

Alternative 1—No Action, No New Leasing;

Alternative 2—Emphasize Oil & Gas Development;

Alternative 3—Meet Forest Plan Direction;

Alternative 4—Emphasize Surface Resources;

Alternative 4a—Alternative 4 With Roadless Conservation Area Emphasis;

Alternative 5—Combination of Alternatives 3 and 4;

Alternative 5a—Alternative 5 With Roadless Conservation Area Emphasis.

Alternative 5 and 5a were identified as “Preferred Alternatives” in the draft EIS. One or the other would be selected depending upon the outcome of the Roadless Rule.

Responsible Official

Gloria Brown, Forest Supervisor, Los Padres National Forest, Goleta, California, is the responsible official.

Nature of Decision To Be Made

In order to implement the proposed action the Forest Supervisor will amend the Los Padres Land and Resources Management Plan to incorporate the following leasing decisions:

1. Decide within Los Padres National Forest which, if any, National Forest System lands not already withdrawn from mineral entry, are available for oil and gas leasing and under what conditions (lease stipulations). (Reference: 36 CFR 228.102(d)).

2. Decide what specific National Forest System lands the Bureau of Land Management will be authorized to offer for lease, subject to Forest Service stipulations to be attached to leases issued by the Bureau of Land Management. (Reference: 36 CFR 228.102(e)).

3. If requested, recommend leasing options to the Bureau of Land Management for the non-federal lands with federal mineral ownership that are within the administrative boundary of Los Padres National Forest.

Subsequently, the BLM will decide whether or not to offer leases on the specific lands authorized by the Forest Service.

Dated: April 6, 2005.
Gloria D. Brown,
Forest Supervisor.

[FR Doc. 05-8504 Filed 4-27-05; 8:45 am]

BILLING CODE 3410-11-M